Title 3—

The President

Proclamation 7789 of May 21, 2004

National Maritime Day, 2004

By the President of the United States of America

A Proclamation

National Maritime Day provides an opportunity to recognize the men and women of the United States Merchant Marine and their contributions to our national security and economic strength.

Since they first offered their ships and services to assist the Continental Navy in our struggle for independence, to their distinguished service in World War II, merchant mariners have courageously sacrificed to protect our country and defend our freedoms. In 1936, America recognized the contributions of these patriots and established the U.S. Merchant Marine “as a naval or military auxiliary in time of war or national emergency.” Today, merchant mariners are delivering essential supplies and equipment to our troops in Iraq and bravely serving the cause of liberty. They continue to play an important role in our Nation's efforts to advance democracy, peace, and freedom around the world, and we are grateful for their dedication.

Merchant mariners also contribute significantly to the U.S. maritime transportation system. More than 95 percent of non-North American trade enters our country through our seaports. These ports handle more than $740 billion and 2 billion tons of domestic and international freight each year. Those in the maritime industry, including merchant mariners, enhance waterborne commerce and help promote America's economic growth.

Today, we honor the courage, determination, and service of our Nation's merchant mariners and remember the many who have given their lives in defense of our country. Their work reflects the patriotism and devotion to duty that make America great.

In recognition of the importance of the U.S. Merchant Marine, the Congress, by joint resolution approved on May 20, 1933, as amended, has designated May 22 of each year as “National Maritime Day,” and has authorized and requested that the President issue an annual proclamation calling for its appropriate observance.

NOW, THEREFORE, I, GEORGE W. BUSH, President of the United States of America, do hereby proclaim May 22, 2004, as National Maritime Day. I call upon the people of the United States to celebrate this observance and to display the flag of the United States at their homes and in their communities. I also request that all ships sailing under the American flag dress ship on that day.

IN WITNESS WHEREOF, I have hereunto set my hand this twenty-first day of May, in the year of our Lord two thousand four, and of the Independence of the United States of America the two hundred and twenty-eighth.

B

[FR Doc. 04-12071

Filed 5-25-04; 8:45 am]

Billing code 3195-01-P